CHEMICAL SAFETY AND HAZARD INVESTIGATION BOARD

Sunshine Act Meeting; Notice

The United States Chemical Safety and Hazard Investigation Board announces that it will convene a Public Meeting beginning at 10:00 a.m. local time on January 10, 2000 at the Defense Nuclear Facilities Safety Board (3rd floor), 625 Indiana Avenue, NW, Washington, DC. Topics to be discussed at the meeting will include:

1. Resignation of the Board Chairperson.

2. Interim Board Governance.

3. Proposed Federal Regulations regarding CSB Quorum, Voting Procedures and compliance with the Government Under the Sunshine Act.

4. Review and Adoption of CSB Mission Statement.

5. Major CSB Initiatives for remainder of FY 2000.

6. Review and Discussion of FY 2001 Budget Proposal.

The meeting will be open to the public. The Defense Nuclear Facilities Safety Board is a secure federal building requiring photo identification for public admission. For more information, please contact the Chemical Safety and Hazard Investigation Board's Office of External Relations, (202)-261-7600, or visit our website at: www.csb.gov.

Christopher W. Warner,
General Counsel.

[FR Doc. 00-2381 Filed 1-31-00; 11:57 am]

BILLING CODE 6350-01-U